DEPARTMENT OF LABOR

Employment and Training Administration

[TA-W-55,782]

Kurdziel Industries, Inc. Sparta, MI; Notice of Termination of Investigation

Pursuant to Section 221 of the Trade Act of 1974, as amended, an investigation was initiated on October 13, 2004 in response to a petition filed by a company official on behalf of workers at Kurdziel Industries, Inc., Sparta, Michigan.

The petitioner has requested that the petition be withdrawn. Consequently, the investigation has been terminated.

Signed in Washington, DC, this 20th day of October, 2004.
Linda G. Poole,
Certifying Officer, Division of Trade Adjustment Assistance.

[FR Doc.E4-3026 Filed 11-4-04; 8:45 am]

BILLING CODE 4510-30-P